COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete product(s) from the Procurement List that were previously furnished by nonprofit agencies employing persons who are blind or have other severe disabilities.

DATES: Comments must be received on or before: December 3, 2023.

ADDRESSES: Committee for Purchase From People Who Are Blind or Severely Disabled, 355 E Street SW, Suite325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

7930-01-619-1848—Protectant, Liquid, Water-Based, Vehicle Interior Surface, (4) 1-GL Container/BX

7930-01-619-1849—Protectant, Liquid, Water-Based, Vehicle Interior Surface, 5 GL

7930-01-619-1852—Detergent, Oil and Water Separating, Heavy Duty, Biodegradable, Trucks and Trailers, 5 GL

7930-01-619-1853—Detergent, Liquid, High-foaming, Car and Truck Washing, (4) 1-GL Container/BX

7930-01-619-1854—Detergent, Liquid, High-foaming, Car and Truck Washing, 5 GL

7930-01-619-1855—Liquid Solution, Truck and Trailer Wash, 5 GL

7930-01-619-1856—Detergent, Oil and Water Separating, Heavy Duty, Biodegradable, Trucks and Trailers, 55 GL

7930-01-619-1857—Cleaner/Degreaser, Heavy Duty, Biodegradable, Car and Trucks, 5 GL

7930-01-619-1858—Liquid Solution, Truck and Trailer Wash, 55 GL

7930-01-619-1859—Cleaner/Degreaser, Heavy Duty, Biodegradable, Car and Trucks, 55 GL

7930-01-619-1860—Liquid Solution, Concentrated, Vehicle, Wash and Shine, With Wax polymer, (4) 1-GL Container/BX

7930-01-619-2631—Liquid Solution, Concentrated, Vehicle, Wash and Shine, W/Wax polymer, 5 GL

Mandatory Source of Supply: Central Association for the Blind and Visually Impaired, Utica, NY.

Contracting Activity: GSA/FSS GREATER SOUTHWEST ACQUISITI, FORT WORTH, TX.

NSN(s)—Product Name(s): 7520-01-441-9130—Kit, Fingerprint

Contracting Activity: GSA/FAS ADMIN SVCS ACQUISITION BR(2, NEW YORK, NY.

Michael R. Jurkowski,
Deputy Director, Business & PL Operations.

[FR Doc. 2023-24296 Filed 11-2-23; 8:45 am]

BILLING CODE 6353-01-P